DEPARTMENT OF STATE

[Public Notice 6886]

Waiver of Restriction on Assistance to the Central Government of Egypt

Pursuant to section 7086(c)(2) of the Department of State, Foreign Operations, and Related Programs Appropriation Act, 2010 (Division F, Pub. L. 111-117) (“the Act”), and Department of State Delegation of Authority Number 245-1, I hereby determine that it is important to the national interest of the United States to waive the requirements of section 7086(c)(1) of the Act with respect to the Government of Egypt, and I hereby waive such restriction.

This determination shall be reported to Congress, and published in the Federal Register.

Dated: January 11, 2010.
Jacob J. Lew,
Deputy Secretary of State for Management and Resources.

[FR Doc. 2010-1351 Filed 1-22-10; 8:45 am]

BILLING CODE 4710-31-P